NUCLEAR REGULATORY COMMISSION

[NRC-2016-0100]

Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from April 26, 2016, to May 9, 2016. The last biweekly notice was published on May 10, 2016 (81 FR 28891).

DATES: Comments must be filed by June 23, 2016. A request for a hearing must be filed by July 25, 2016.

ADDRESSES: You may submit comments by any of the following methods (unless this document describes a different method for submitting comments on a specific subject):

• Federal Rulemaking Web site: Go to http://www.regulations.gov and search for Docket ID NRC-2016-0100. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Mable Henderson, Office of Nuclear Reactor Regulation, U.S. Nuclear Regulatory Commission, Washington DC 20555-0001; telephone: 301-415-3760, email: Mable.Henderson@nrc.gov.

I. Obtaining Information and Submitting Comments

A. Obtaining Information

Please refer to Docket ID NRC-2016-0100 when contacting the NRC about the availability of information for this action. You may obtain publicly-available information related to this action by any of the following methods:

• Federal Rulemaking Web site: Go to http://www.regulations.gov and search for Docket ID NRC-2016-0100.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2016-0100, facility name, unit number(s), application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission makes a final no significant hazards consideration determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC regulations, policies and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i) through (iii). If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, federally-recognized Indian Tribe, or agency thereof, may submit a petition to the Commission to participate as a party under 10 CFR 2.309(h)(1). The petition should state the nature and extent of the petitioner's interest in the proceeding. The petition should be submitted to the Commission by July 25, 2016. The petition must be filed in accordance with the filing instructions in the “Electronic Submissions (E-Filing)” section of this document, and should meet the requirements for petitions for leave to intervene set forth in this section, except that under § 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Persons desiring to make a limited appearance are requested to inform the Secretary of the Commission by July 25, 2016.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Arizona Public Service Company, et al., Docket Nos. STN 50-528, STN 50-529, and STN 50-530, Palo Verde Nuclear Generating Station, Units 1, 2, and 3 (PVNGS), Maricopa County, Arizona

Date of amendment request: April 1, 2016. A publicly-available version is in ADAMS under Accession No. ML16096A337.

Description of amendment request: The amendments would revise the technical specifications (TSs) for PVNGS, by modifying the requirements regarding the degraded and loss of voltage relays that are planned to be modified to be more aligned with designs generally implemented in the industry. Specifically, the licensing basis for degraded voltage protection will be changed from reliance on a TS initial condition that ensures adequate post-trip voltage support of accident mitigation equipment to crediting automatic actuation of the degraded and loss of voltage relays to ensure proper equipment performance.

Basis for proposed no significant hazards consideration determination: As required by 10 CFR 50.91(a), the licensee has provided its analysis of the issue of no significant hazards consideration, which is presented below:

1. Does the proposed amendment involve a significant increase in the probability or consequences of an accident previously evaluated?

Response: No.

The proposed change would revise the allowable values of the Palo Verde Nuclear Generating Station (PVNGS) Engineered Safety Features Actuation System (ESFAS) Class 1E 4.16 [kiloVolt (kV)] bus degraded voltage and loss of voltage relays. Specifically, the proposed change includes a two stage time delay for the degraded voltage relays and a fixed time delay for the loss of voltage relays with corresponding voltage settings. The proposed change is supported by design calculations and analyses to ensure that the Class 1E buses will be isolated from the normal off-site power source at the appropriate voltage level and time delay under either accident or non-accident sustained degraded voltage conditions. The normally operating safety-related motors will continue to operate without sustaining damage or tripping during the worst-case, accident (i.e., safety injection actuation signal, SIAS) or non-accident degraded voltage condition for the maximum possible time-delay. Thus, the safety-related loads will be available to perform their safety function if a loss-of coolant accident (LOCA) coincident with a loss-of-offsite power (LOOP) occurs following a degraded voltage condition.

The proposed change implements a new design for a reduced (short stage) time delay to isolate safety buses from offsite power if a LOCA were to occur coincident with a sustained degraded voltage condition. This ensures that emergency core cooling system pumps inject water into the reactor vessel within the time assumed and evaluated in the accident analysis, consistent with current NRC requirements and 10 CFR part 50, Appendix A, General Design Criterion 17, Electric Power Systems.

The proposed changes do not adversely affect accident initiators or precursors. The diesel generator start, due to a LOCA signal, and loading sequence are not affected by this change. During an actual loss of voltage or degraded voltage condition, the loss of voltage and/or degraded voltage time delay will isolate the Class 1E 4.16 kV distribution system from offsite power before the diesel is ready to assume the emergency loads, which is the limiting time basis for mitigating system responses to the accident. For this reason, the existing LOCA with coincident LOOP analysis continues to be valid.

Therefore, the proposed amendment does not involve a significant increase in the probability or consequences of an accident previously evaluated.

2. Does the proposed amendment create the possibility of a new or different kind of accident from any accident previously evaluated?

Response: No.

The proposed change would revise the allowable values of the PVNGS ESFAS Class 1E 4.16 kV bus degraded voltage and loss of voltage relays. Specifically, the proposed change includes a two stage time delay for the degraded voltage relays and a fixed time delay for the loss of voltage relays with corresponding voltage settings.

The proposed change does not introduce any changes or mechanisms that create the possibility of a new or different kind of accident. While the proposed change does install new relays, with new settings and time delays, the relays are not new to the industry and are not being operated in a unique or different manner. No new effects on existing equipment are created nor are any new malfunctions introduced.

The accidents and events previously analyzed remain bounding. Therefore, the proposed amendment does not create the possibility of a new or different kind of accident from any accident previously evaluated.

3. Does the proposed amendment involve a significant reduction in a margin of safety?

Response: No.

The proposed change would revise the allowable values of the PVNGS ESFAS Class 1E 4.16 kV bus degraded voltage and loss of voltage relays. Specifically, the proposed change includes a two stage time delay for the degraded voltage relays and a fixed time delay for the loss of voltage relays with corresponding voltage settings. The proposed change implements a new design for a reduced time delay to isolate safety buses from offsite power if a LOCA were to occur coincident with a sustained degraded voltage condition. This ensures that emergency core cooling system pumps inject water into the reactor vessel within the time assumed and evaluated in the accident analysis, consistent with current NRC requirements and 10 CFR part 50, Appendix A, General Design Criterion 17, Electric Power Systems. The proposed TS change to the maximum and minimum allowable voltages for the Class 1E 4.16 kV buses will allow all safety loads to have sufficient voltage to perform their intended safety functions while ensuring spurious trips are avoided. Thus, the results of the accident analyses will not be affected as the input assumptions are protected.

The diesel generator start, due to a LOCA signal, is not affected by this change. During an actual loss of voltage or degraded voltage condition, the loss of voltage and/or degraded voltage relay voltage settings and time delays will continue to isolate the Class 1E 4.16 kV distribution system from offsite power before the emergency diesel generator is ready to assume the emergency loads. Therefore, the proposed amendment does not involve a significant reduction in the margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, AZ 85072-2034.

NRC Branch Chief: Robert J. Pascarelli.

Dominion Nuclear Connecticut, Inc. (DNC), Docket No. 50-336, Millstone Power Station, Unit No. 2 (MPS2), New London County, Connecticut

Date of amendment request: January 25, 2016. A publicly available version is in ADAMS under Accession No. ML16029A168.

Description of amendment request: The amendment would revise MPS2 Technical Specification (TS) 3.5.2, “Emergency Core Cooling Systems, ECCS Subsystems—Tavg > 300 °F,” to remove the charging system and eliminate Surveillance Requirement 4.5.2.e from the TSs. The proposed amendment would also revise MPS2 Final Safety Analysis Report (FSAR) Chapter 14, Section 14.6.1, “Inadvertent Opening of a Pressurized Water Reactor Pressurizer Pressure Relief Valve,” to reflect the results of a new long-term analysis for the Inadvertent Opening of Pressurizer Pressure Relief Valve (IOPPRV) event that does not credit charging flow. The proposed amendment would also revise MPS2 FSAR, Section 14.0.11, to clarify the existing discussion regarding the application of single failure criteria.

Basis for proposed no significant hazards consideration determination: As required by 10 CFR 50.91(a), the licensee has provided its analysis of the issue of no significant hazards consideration, which is presented below, with NRC staff revisions provided in [brackets]:

1. Does the proposed amendment involve a significant increase in the probability or consequences of an accident previously evaluated?

Response: No.

The FSAR Chapter 14 accident analyses for MPS2 do not take credit for the flow delivered by the charging pumps. Additionally, the proposed change does not modify any plant equipment or method of operation for any [structures, systems, and components] SSC[s] required for safe operation of the facility or mitigation of accidents assumed in the facility safety analyses.

Therefore, the proposed amendment will not significantly increase the probability or consequences of an accident previously evaluated.

2. Does the proposed amendment create the possibility of a new or different kind of accident from any previously evaluated?

Response: No.

The proposed amendment does not modify any plant equipment or method of operation for any SSC required for safe operation of the facility or mitigation of accidents assumed in the facility safety analyses. As such, no new failure modes are introduced by the proposed change. Consequently, the proposed amendment does not introduce any accident initiators or malfunctions that would cause a new or different kind of accident.

Therefore, the proposed amendment does not create the possibility of a new or different kind of accident from any accident previously evaluated.

3. Does the proposed amendment involve a significant reduction in a margin of safety?

Response: No.

The proposed amendment does not involve a significant reduction in a margin of safety since the proposed changes do not affect equipment design or operation, and no changes are being made to the TS-required safety limits or safety system settings. The proposed changes involve a new safety analysis for the long-term event response for FSAR Chapter 14.6.1, “Inadvertent Opening of a Pressurized Water Reactor Pressurizer Pressure Relief Valve.” The analysis demonstrates that flow from two [high pressure safety injection] HPSI pumps, with no credit for the charging pumps, is sufficient to prevent long-term core uncovery, and thus there is no challenge to the specified acceptable fuel design limits. By meeting the MPS2 FSAR Chapter 14 acceptance criteria for a moderate frequency event, there is no significant reduction in the margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Travis L. Tate.

Dominion Nuclear Connecticut, Inc. (DNC), Docket No. 50-336, Millstone Power Station, Unit No. 2 (MPS2), New London County, Connecticut

Date of amendment request: January 26, 2016. A publicly-available version is in ADAMS under Accession No. ML16034A358.

Description of amendment request: The amendment would revise Section 9.5 of the Final Safety Analysis Report (FSAR) to allow fuel movement to start 100 hours after reactor subcriticality and proceed at an average rate of six assemblies per hour provided the Reactor Building Closed Cooling Water (RBCCW) temperature to the spent fuel pool cooling and shutdown cooling heat exchangers is maintained at less than or equal to 75 °F. If 75 °F cooling water is not achievable, fuel movement at an average rate of six fuel assemblies per hour could be permitted at 150 hours after subcriticality and then only with RBCCW temperatures less than or equal to 85°F. The proposed changes to FSAR Section 9.5 would also address some typographical errors. Technical Specification Bases Section 3/4.9.3 would also be revised to remove reference to the MPS2 spent fuel pool (SFP) heat load analysis.

Basis for proposed no significant hazards consideration determination: As required by 10 CFR 50.91(a), the licensee has provided its analysis of the issue of no significant hazards consideration, which is presented below, with NRC staff revisions provided in [brackets]:

1. Does the proposed amendment involve a significant increase in the probability or consequences of an accident previously evaluated?

Response: No.

The proposed amendment affects some assumptions in the MPS2 FSAR related to the performance of the SFP cooling system and cooling of the fuel in the refueling pool. However, the existing design limits for the SFP remain unchanged. Reducing the decay time from 150 hours to 100 hours prior to allowing fuel movement at an increased average rate of six fuel assemblies per hour does not adversely affect SFP design or operation, provided proposed RBCCW temperature limits are satisfied. The proposed amendment does not change the design or function of the SFP cooling system and is consistent with that previously approved by the NRC under License Amendment 240.

The proposed amendment does not affect the temperature limits of the SFP. The thermal-hydraulic analyses supporting the amendment show that the SFP temperature limits continue to be met with increased heat loads due to reduced time to fuel movement and a higher rate of fuel movement. SFP heat load is not an initiator of any accident discussed in Chapter 14 of the MPS2 FSAR. The proposed amendment does not affect the capability of plant structures, systems, or components (SCCs) to perform their design function and does not increase the probability of a malfunction of any SSC.

The MPS2 FSAR Chapter 14 accident analyses, including the FHA [fuel handling accident] presented in FSAR Section 14.7.4, are not affected by the proposed amendment. The proposed amendment does not increase the probability of a FHA, change the assumptions in the FHA, or affect the conclusions of the current FHA analysis of record. The current FHA analysis of record assumes a minimum 100-hour decay time, which is consistent with the minimum allowable decay time assumed in the thermal-hydraulic analyses that support this amendment. The dose results of the FHA analysis are unchanged, and remain within applicable regulatory limits.

Therefore, the proposed amendment does not involve a significant increase in the probability or consequences of an accident previously evaluated.

2. Does the proposed amendment create the possibility of a new or different kind of accident from any previously evaluated?

Response: No.

The proposed amendment would revise the minimum allowed start time to begin fuel movement from 150 hours to 100 hours after reactor subcriticality and increase the maximum allowable rate of fuel assembly movement from an average of four assemblies per hour to an average of six assemblies per hour. The revised decay time limit and fuel offload rates do not create the possibility of a new type of accident because the methods for moving fuel and the operation of equipment used for moving fuel are not changed. The proposed amendment does not add or modify any plant equipment. The design and testing of systems designed to maintain the SFP temperature within established limits are not affected by the proposed change. The proposed amendment does not create any credible new failure mechanisms, malfunctions, or accident initiators not considered in the design and licensing basis.

Therefore, the proposed amendment does not create the possibility of a new or different kind of accident from any accident previously evaluated.

3. Does the proposed amendment involve a significant reduction in a margin of safety?

Response: No.

The FHA analysis of record already accounts for irradiated fuel with at least 100 hours of decay. This approved analysis has shown that the projected doses will remain within applicable regulatory limits. Therefore, the proposed amendment does not reduce the margin of safety of the currently approved FHA analysis of record.

The SFP heat load analyses submitted demonstrate that the impact of reduced decay time on SFP decay heat load is offset by the reduced cooling water temperatures such that the maximum normally allowed pool temperature is not exceeded. The slight 1.6 °F increase in SFP temperature for full core off-load as a normal event (for 100 hour hold time with 75 °F RBCCW temperature) is not a significant change and remains below the maximum normally allowed SFP temperature of 150 °F. The peak temperature of the SFP during a loss of cooling event is unaffected and the peak temperature of the fuel cladding, or along the fuel, remains within acceptable limits. Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Travis L. Tate.

Energy Northwest, Docket No. 50-397, Columbia Generating Station, Benton County, Washington

Date of amendment request: March 3, 2016. A publicly-available version is in ADAMS under Accession No. ML16067A390.

Description of amendment request: The amendment would revise the Technical Specification Surveillance Requirements for heaters in the Standby Gas Treatment (SGT) and Control Room Emergency Filtration (CREF) ventilation systems. The proposed amendment is consistent with NRC-approved Technical Specifications Task Force (TSTF) Traveler TSTF-522, Revision 0, “Revise Ventilation System Surveillance Requirements to Operate for 10 hours per Month,” as published in the Federal Register on September 20, 2012 (77 FR 58421), with variations due to plant-specific nomenclature.

Basis for proposed no significant hazards consideration determination: As required by 10 CFR 50.91(a), the licensee has provided its analysis of the issue of no significant hazards consideration, which is presented below:

1. Does the proposed change involve a significant increase in the probability or consequences of an accident previously evaluated?

Response: No.

The proposed change replaces an existing Surveillance Requiremen[t] to operate the SGT System and CREF System equipped with electric heaters for a continuous 10 hour period every 31 days with a requirement to operate the systems for 15 continuous minutes with heaters operating.

These systems are not accident initiators and therefore, these changes do not involve a significant increase in the probability of an accident. The proposed system and filter testing changes are consistent with current regulatory guidance for these systems and will continue to assure that these systems perform their design function which may include mitigating accidents. Thus the change does not involve a significant increase in the consequences of an accident.

Therefore, the proposed change does not involve a significant increase in the probability or consequences of an accident previously evaluated.

2. Does the proposed change create the possibility of a new or different kind of accident from any accident previously evaluated?

Response: No.

The proposed change replaces an existing Surveillance Requiremen[t] to operate the SGT System and CREF System equipped with electric heaters for a continuous 10 hour period every 31 days with a requirement to operate the systems for 15 continuous minutes with heaters operating.

The change proposed for these ventilation systems does not change any system operations or maintenance activities. Testing requirements will be revised and will continue to demonstrate that the Limiting Conditions for Operation are met and the system components are capable of performing their intended safety functions. The change does not create new failure modes or mechanisms and no new accident precursors are generated.

Therefore, the proposed change does not create the possibility of a new or different kind of accident from any accident previously evaluated.

3. Does the proposed change involve a significant reduction in a margin of safety?

Response: No.

The proposed change replaces an existing Surveillance Requiremen[t] to operate the SGT System and CREF System equipped with electric heaters for a continuous 10 hour period every 31 days with a requirement to operate the systems for 15 continuous minutes with heaters operating.

The design basis for the ventilation systems' heaters is to heat the incoming air which reduces the relative humidity. The heater testing change proposed will continue to demonstrate that the heaters are capable of heating the air and will perform their design function. The proposed change is consistent with regulatory guidance.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street NW., Washington, DC 20006-3817.

NRC Branch Chief: Robert J. Pascarelli.

Exelon Generation Company, LLC, Docket Nos. 50-317 and 50-318, Calvert Cliffs Nuclear Power Plant, Unit Nos. 1 and 2, Calvert County, Maryland

Date of amendment request: February 4, 2016. A publicly-available version is in ADAMS under Accession No. ML16035A227.

Description of amendments request: The amendments would revise the Calvert Cliffs technical specifications (TSs) to correct an administrative error in the License Amendment Request (LAR) submitted in accordance with Technical Specification Task Force Traveler 523, “Generic Letter 2008-01, Managing Gas Accumulation.” The proposed change would add Surveillance Requirement (SR) 3.5.2.10 to the list of applicable Surveillances of SR 3.5.3.1.

Basis for proposed no significant hazards consideration determination: As required by 10 CFR 50.91(a), the licensee has provided its analysis of the issue of no significant hazards consideration, which is presented below:

1. Does the proposed amendment involve a significant increase in the probability or consequences of any accident previously evaluated?

Response: No.

The proposed LAR is purely an administrative change; therefore, the probability of any accident previously evaluated is not significantly increased. The systems and components required by the TS for which SR 3.5.2.10 is applicable, continue to be operable and capable of performing any mitigation function assumed in the accident analysis. As a result, the consequences of any accident previously evaluated are not significantly increased.

Therefore, the proposed change does not involve a significant increase in the probability or consequences of an accident previously evaluated.

2. Does the proposed amendment create the possibility of a new or different kind of accident from any previously evaluated?

Response: No.

The proposed LAR is purely an administrative change. The proposed change to add SR 3.5.2.10 to the list of applicable surveillances in SR 3.5.3.1 does not create a new or different kind of accident previously evaluated.

The change does not involve a physical alteration of the plant (i.e., no new or different type of equipment will be installed) or a change in the methods governing normal plant operation. In addition, the change does not impose any new or different requirements. The change does not alter assumptions made in the safety analysis. The proposed change is consistent with the safety analysis assumptions and current plant operating practice.

Therefore, the proposed change does not create the possibility of a new or different kind of accident from any accident previously evaluated.

3. Does the proposed amendment involve a significant reduction in a margin of safety?

Response: No.

The proposed LAR is purely an administrative change to add SR 3.5.2.10 to the list of applicable surveillances in SR 3.5.3.1.

The design, operation, testing methods, and acceptance criteria for systems, structures, and components (SSCs), specified in applicable codes and standards (or alternatives approved for use by the NRC) will continue to be met as described in the plant licensing basis (including the Final Safety Analysis Report and Bases to TS). Similarly, there is no impact to safety analysis acceptance criteria as described in the plant licensing basis.

Therefore, the proposed change does not involve a significant reduction in a margin of safety.

The NRC staff has reviewed the licensee's analysis and, based on this review, it appears that the three standards of 10 CFR 50.92(c) are satisfied. Therefore, the NRC staff proposes to determine that the amendments request involves no significant hazards consideration.

Attorney for licensee: Tamra Domeyer, Associate General Counsel, Exelon Generation Company, LLC, 4300 Winfield Road, Warrenville, IL 60555.

NRC Branch Chief: Travis L. Tate.

Exelon Generation Company, LLC, Docket Nos. 50-317 and 50-318, Calvert Cliffs Nuclear Power Plant, Unit Nos. 1 and 2, Calvert County, Maryland

Date of amendment request: February 25, 2016. A publicly-available version is in ADAMS under Accession No. ML16060A223.

Description of amendments request: The amendments would revise the Calvert Cliffs technical specifications (TSs) to permit the use of Risk-Informed Completion Times in accordance with TSTF-505, Revision 1, “Provide Risk-Informed Extended Completion Times—RITSTF Initiative 4b.” The availability of this TS improvement was announced in the Federal Register on March 15, 2012 (77 FR 15399).

Basis for proposed no significant hazards consideration determination: As required by 10 CFR 50.91(a), the licensee has provided its analysis of the issue of no significant hazards consideration, which is presented below:

1. Does the proposed amendment involve a significant increase in the probability or consequences of any accident previously evaluated?

Response: No.

The proposed changes permit the extension of Completion Times provided the associated risk is assessed and managed in accordance with the NRC approved Risk-Informed Completion Time Program. The proposed changes do not involve a significant increase in the probability of an accident previously evaluated because the changes involve no change to the plant or its modes of operation. The proposed changes do not increase the consequences of an accident because the design-basis mitigation function of the affected systems is not changed and the consequences of an accident during the extended Completion Time are no different from those during the existing Completion Time.

Therefore, the proposed changes do not involve a significant increase in the probability or consequences of an accident previously evaluated.

2. Does the proposed amendment create the possibility of a new or different kind of accident from any previously evaluated?

Response: No.

The proposed changes do not change the design, configuration, or method of operation of the plant. The proposed changes do not involve a physical alteration of the plant (no new or different kind of equipment will be installed).

Therefore, the proposed changes do not create the possibility of a new or different kind of accident from any accident previously evaluated.

3. Does the proposed amendment involve a significant reduction in a margin of safety?

Response: No.

The proposed changes permit the extension of Completion Times provided that risk is assessed and managed in accordance with the NRC approved Risk-Informed Completion Time Program. The proposed changes implement a risk-informed configuration management program to assure that adequate margins of safety are maintained. Application of these new specifications and the configuration management program considers cumulative effects of multiple systems or components being out of service and does so more effectively than the current TS.

Therefore, the proposed changes do not involve a significant reduction in a margin of safety.

The NRC staff has reviewed the licensee's analysis and, based on this review, it appears that the three standards of 10 CFR 50.92(c) are satisfied. Therefore, the NRC staff proposes to determine that the amendments request involves no significant hazards consideration.

Attorney for licensee: Tamra Domeyer, Associate General Counsel, Exelon Generation Company, LLC, 4300 Winfield Road, Warrenville, IL 60555.

NRC Branch Chief: Travis L. Tate.

Exelon Generation Company, LLC, Docket Nos. 50-352 and 50-353, Limerick Generating Station (LGS), Units 1 and 2, Montgomery County, Pennsylvania

Date of amendment request: March 29, 2016. A publicly-available version is in ADAMS under Package Accession No. ML16090A286.

Description of amendment request: The amendments would revise the Technical Specification (TS) requirements for snubbers.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes will revise TS 4.7.4 to conform the TS to the revised Snubber Program. Snubber examination, testing, and service life monitoring will continue to meet the requirements of 10 CFR 50.55a(g). Snubber examination, testing, and service life monitoring are not initiators of any accident previously evaluated. Therefore, the probability of an accident previously evaluated is not significantly increased. Snubbers will continue to be demonstrated OPERABLE by performance of a program for examination, testing, and service life monitoring in compliance with 10 CFR 50.55a or authorized alternatives. The proposed changes do not adversely affect plant operations, design functions, or analyses that verify the capability of systems, structures, and components to perform their design functions. Therefore, the consequences of accidents previously evaluated are not significantly increased.

Based on the above, these proposed changes do not involve a significant increase in the probability or consequences of an accident previously evaluated.

2. Does the proposed amendment create the possibility of a new or different kind of accident from any accident previously evaluated?

Response: No.

The proposed changes do not involve any physical alteration of plant equipment. The proposed changes do not alter the method by which any safety-related system performs its function. As such, no new or different types of equipment will be installed, and the basic operation of installed equipment is unchanged. The methods governing plant operation and testing remain consistent with current safety analysis assumptions.

Therefore, it is concluded that these proposed changes do not create the possibility of a new or different kind of accident from any accident previously evaluated.

3. Does the proposed amendment involve a significant reduction in a margin of safety?

Response: No.

The proposed changes ensure snubber examination, testing, and service life monitoring will continue to meet the requirements of 10 CFR 50.55a(g). Snubbers will continue to be demonstrated OPERABLE by performance of a program for examination, testing, and service life monitoring in compliance with 10 CFR 50.55a or authorized alternatives.

Therefore, it is concluded that the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: Douglas A. Broaddus.

Nebraska Public Power District (NPPD), Docket No. 50-298, Cooper Nuclear Station (CNS), Nemaha County, Nebraska

Date of amendment request: March 22, 2016. A publicly-available version is in ADAMS under Accession No. ML16110A425.

Description of amendment request: The amendment would modify the CNS technical specifications (TSs) by relocating specific surveillance frequencies to a licensee-controlled program consistent with NRC-approved Technical Specifications Task Force (TSTF) Traveler TSTF-425, Revision 3, “Relocate Surveillance Frequencies to Licensee Control—RITSTF [Risk-Informed Technical Specifications Task Force] Initiative 5b,” dated March 18, 2009 (ADAMS Accession No. ML090850642). The availability of this TS improvement program was announced in the Federal Register on July 6, 2009 (74 FR 31996). The NPPD has proposed certain plant-specific variations and deviations from TSTF-425, Revision 3, as described in its application dated March 22, 2016.

Basis for proposed no significant hazards consideration determination: As required by 10 CFR 50.91(a), the licensee has provided its analysis of the issue of no significant hazards consideration, with NRC staff revisions provided in [brackets], which is presented below:

1. Do the proposed changes involve a significant increase in the probability or consequences of any accident previously evaluated?

Response: No.

The proposed change relocates the specified frequencies for periodic surveillance requirements to licensee control under a new SFCP [Surveillance Frequency Control Program]. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Do the proposed changes create the possibility of a new or different kind of accident from any previously evaluated?

Response: No.

No new or different accidents result from utilizing the proposed change. The change does not involve a physical alteration of the plant (i.e., no new or different type of equipment will be installed) or a change in the methods governing normal plant operation. In addition, the change does not impose any new or different requirements. The change does not alter assumptions made in the safety analysis. The proposed change is consistent with the safety analysis assumptions and current plant operating practice.

Therefore, the proposed change does not create the possibility of a new or different kind of accident from any accident previously evaluated.

3. Do the proposed changes involve a significant reduction in the margin of safety?

Response: No.

The design, operation, testing methods, and acceptance criteria for structures, systems, components, specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, NPPD will perform a probabilistic risk evaluation using the guidance contained in NRC approved NEI [Nuclear Energy Institute] 04-10, Revision 1, in accordance with the TS SFCP. NEI 04-10, Revision 1, methodology provides reasonable acceptance guidelines and methods for evaluating the risk increase of proposed changes to surveillance frequencies consistent with Regulatory Guide 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Branch Chief: Meena K. Khanna.

NextEra Energy Seabrook LLC, Docket No. 50-443, Seabrook Station, Unit No. 1, Rockingham County, New Hampshire

Date of amendment request: February 27, 2016. A publicly-available version is in ADAMS under Accession No. ML16068A130.

Description of amendment request: The amendment would revise the emergency plan for Seabrook Station, Unit No. 1 (Seabrook), to adopt the emergency action level scheme pursuant to Nuclear Energy Institute (NEI) 99-01, Revision 6, “Development of Emergency Action Levels for Non-Passive Reactors.”

Basis for proposed no significant hazards consideration determination: As required by 10 CFR 50.91(a), the licensee has provided its analysis of the issue of no significant hazards consideration, which is presented below:

1. Does the proposed amendment involve a significant increase in the probability or consequences of an accident previously evaluated?

The proposed changes to the Seabrook emergency action levels neither involve any physical changes to plant equipment or systems nor do they alter the assumptions of any accident analyses. The proposed changes do not adversely affect accident initiators or precursors, and they do not alter design assumptions, plant configuration, or the manner in which the plant is operated and maintained. The proposed change does not adversely affect the ability of structures, systems or components (SSCs) to perform their intended safety functions in mitigating the consequences of an initiating event within the assumed acceptance limits.

Therefore, the proposed change does not involve a significant increase in the probability or consequences of an accident previously evaluated.

2. Does the proposed amendment create the possibility of a new or different kind of accident from any accident previously evaluated?

No new accident scenarios, failure mechanisms, or limiting single failures are introduced as a result of the proposed changes. The changes do not challenge the integrity or performance of any safety-related systems. No plant equipment is installed or removed, and the changes do not alter the design, physical configuration, or method of operation of any plant SSC. No physical changes are made to the plant, and emergency action levels are not accident initiators[,] so no new causal mechanisms are introduced.

Therefore, the proposed changes do not create the possibility of a new or different kind of accident from any accident previously evaluated.

3. Does the proposed amendment involve a significant reduction in a margin of safety?

Margin of safety is associated with the ability of the fission product barriers (i.e., fuel cladding, reactor coolant system pressure boundary, and containment structure) to limit the level of radiation dose to the public. The proposed changes do not impact operation of the plant and no accident analyses are affected by the proposed changes. The changes do not affect the Technical Specifications or the method of operating the plant. Additionally, the proposed changes will not relax any criteria used to establish safety limits and will not relax any safety system settings. The safety analysis acceptance criteria are not affected by these changes. The proposed changes will not result in plant operation in a configuration outside the design basis. The proposed changes do not adversely affect systems that respond to safely shut down the plant and to maintain the plant in a safe shutdown condition.

Therefore, the proposed change do not involve a significant reduction in a margin of safety.

The NRC staff has reviewed the licensee's analysis and, based on this review, it appears that the three standards of 10 CFR 50.92(c) are satisfied. Therefore, the NRC staff proposes to determine that the amendment request involves no significant hazards consideration.

Attorney for licensee: William Blair, Managing Attorney—Nuclear, Florida Power & Light Company, P.O. Box 14000, Juno Beach, FL 33408-0420.

NRC Branch Chief: Douglas A. Broaddus.

Southern Nuclear Operating Company, Inc., Docket Nos. 50-348 and 50-364, Joseph M. Farley Nuclear Plant, Units 1 and 2, Houston County, Alabama

Date of amendment request: March 16, 2016. A publicly-available version is in ADAMS under Accession No. ML16076A217.

Description of amendment request: The amendment would revise the technical specifications to allow the use of Optimized ZIRLO™ as an approved fuel rod cladding.

Basis for proposed no significant hazards consideration determination: As required by 10 CFR 50.91(a), the licensee has provided its analysis of the issue of no significant hazards consideration, which is presented below:

1. Does the proposed change involve a significant increase in the probability or consequences of an accident previously evaluated?

Response: No.

The proposed change would allow the use of Optimized ZIRLO™ clad nuclear fuel in the reactors. The NRC approved topical report WCAP-12610-P-A & CENPD-404-P-A, Addendum 1-A “Optimized ZIRLO™,” prepared by Westinghouse Electric Company LLC (Westinghouse), addresses Optimized ZIRLO™ and demonstrates that Optimized ZIRLO™ has essentially the same properties as currently licensed ZIRLO™. The fuel cladding itself is not an accident initiator and does not affect accident probability. Use of Optimized ZIRLO™ fuel cladding has been shown to meet all 10 CFR 50.46 acceptance criteria and, therefore, will not increase the consequences of an accident.

Therefore, the proposed change does not involve a significant increase in the probability or consequences of an accident previously evaluated.

2. Does the proposed change create the possibility of a new or different kind of accident from any accident previously evaluated?

Response: No.

Use of Optimized ZIRLO™ clad fuel will not result in changes in the operation or configuration of the facility. Topical Report WCAP-12610-P-A and CENPD-404-P-A demonstrated that the material properties of Optimized ZIRLO™ are similar to those of ZIRLO®. Therefore, Optimized ZIRLO™ fuel rod cladding will perform similarly to those fabricated from ZIRLO®, thus precluding the possibility of the fuel becoming an accident initiator and causing a new or different type of accident.

Therefore, the proposed change does not create the possibility of a new or different kind of accident from any previously evaluated.

3. Does the proposed amendment involve a significant reduction in a margin of safety?

Response: No.

The proposed change will not involve a significant reduction in the margin of safety because it has been demonstrated that the material properties of the Optimized ZIRLO™ are not significantly different from those of ZIRLO®. Optimized ZIRLO™ is expected to perform similarly to ZIRLO® for all normal operating and accident scenarios, including both loss of coolant accident (LOCA) and non-LOCA scenarios. For LOCA scenarios, plant-specific evaluations have been performed which allow the use of fuel assemblies with fuel rods containing Optimized ZIRLO™. These LOCA evaluations address the NRC SER [safety evaluation report] conditions and limitations for Optimized ZIRLO™ fuel rod cladding and provide continued compliance with the acceptance criteria of 10 CFR 50.46.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Iverness Center Parkway, Birmingham, AL 35201.

NRC Branch Chief: Michael T. Markley.

Southern Nuclear Operating Company, Inc., Docket Nos. 50-424 and 50-425, Vogtle Electric Generating Plant, Units 1 and 2, Burke County, Georgia; Docket Nos. 50-348 and 50-364, Joseph M. Farley Nuclear Plant, Units 1 and 2, Houston County, Alabama; Docket Nos. 50-321 and 50-366, Edwin I. Hatch Nuclear Plant, Units 1 and 2, Appling County, Georgia

Date of amendment request: March 14, 2016. A publicly-available version is in ADAMS under Accession No. ML16074A185.

Description of amendment request: The amendments would adopt the NRC-approved Technical Task Force Traveler TSTF-65-A, Revision 1, “Use of Generic Titles for Utility Positions.” The proposed change would allow use of generic personnel titles in lieu of plant-specific titles.

Basis for proposed no significant hazards consideration determination: As required by 10 CFR 50.91(a), the licensee has provided its analysis of the issue of no significant hazards consideration, which is presented below:

1. Does the proposed amendment involve a significant increase in the probability or consequences of an accident previously evaluated?

Response: No.

This change has no effect on structures, systems, and components (SSCs) of the plants. There are no changes to plant operations, or to any design function or analysis that verifies the capability of an SSC to perform a design function. There are no previously evaluated accidents affected by this change. The proposed changes are administrative in nature, and as such, do not affect indicators of analyzed events or assumed mitigation of accidents or transients.

Therefore, the proposed change does not involve a significant increase in the probability or consequences of an accident previously evaluated.

2. Does the proposed amendment create the possibility of a new or different kind of accident from any accident previously evaluated?

This change has no effect on the design function or operation of SSCs, and will not affect the SSCs' operation or ability to perform their design functions. This change does not involve a physical alteration of the plants, add any new equipment, or allow any existing equipment to be operated in a manner different from the present method of operation.

Therefore, the proposed change does not create the possibility of a new or different kind of accident from any accident previously evaluated.

3. Does the proposed changes involve a significant reduction in a margin of safety?

This change is administrative in nature and has no effect on plant design margins. There are no changes being made to safety limits or limiting safety system settings that would adversely affect plant safety as a result of the proposed change.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel of Operations and Nuclear, Southern Nuclear Operating Company, 40 Iverness Center Parkway, Birmingham, AL 35201.

NRC Branch Chief: Michael T. Markley.

Southern Nuclear Operating Company, Inc., Docket Nos. 50-424 and 50-425, Vogtle Electric Generating Plant, Units 1 and 2, Burke County, Georgia

Date of amendment request: March 16, 2016. A publicly-available version is in ADAMS under Accession No. ML16076A217.

Description of amendment request: The amendments would revise the technical specifications to allow the use of Optimized ZIRLO™ as an approved fuel rod cladding.

Basis for proposed no significant hazards consideration determination: As required by 10 CFR 50.91(a), the licensee has provided its analysis of the issue of no significant hazards consideration, which is presented below:

1. Does the proposed change involve a significant increase in the probability or consequences of an accident previously evaluated?

Response: No.

The proposed change would allow the use of Optimized ZIRLO™ clad nuclear fuel in the reactors. The NRC approved topical report WCAP-12610-P-A & CENPD-404-P-A, Addendum 1-A “Optimized ZIRLO™,” prepared by Westinghouse Electric Company LLC (Westinghouse), addresses Optimized ZIRLO™ and demonstrates that Optimized ZIRLO™ has essentially the same properties as currently licensed ZIRLO™. The fuel cladding itself is not an accident initiator and does not affect accident probability. Use of Optimized ZIRLO™ fuel cladding has been shown to meet all 10 CFR 50.46 acceptance criteria and, therefore, will not increase the consequences of an accident.

Therefore, the proposed change does not involve a significant increase in the probability or consequences of an accident previously evaluated.

2. Does the proposed change create the possibility of a new or different kind of accident from any accident previously evaluated?

Response: No.

Use of Optimized ZIRLO™ clad fuel will not result in changes in the operation or configuration of the facility. Topical Report WCAP-12610-P-A & CENPD- 404-P-A demonstrated that the material properties of Optimized ZIRLO™ are similar to those of ZIRLO®. Therefore, Optimized ZIRLO™ fuel rod cladding will perform similarly to those fabricated from ZIRLO®, thus precluding the possibility of the fuel becoming an accident initiator and causing a new or different type of accident.

Therefore, the proposed change does not create the possibility of a new or different kind of accident from any previously evaluated.

3. Does the proposed change involve a significant reduction in a margin of safety?

Response: No.

The proposed change will not involve a significant reduction in the margin of safety because it has been demonstrated that the material properties of the Optimized ZIRLO™ are not significantly different from those of ZIRLO®. Optimized ZIRLO™ is expected to perform similarly to ZIRLO® for all normal operating and accident scenarios, including both loss of coolant accident (LOCA) and non-LOCA scenarios. For LOCA scenarios, plant-specific evaluations have been performed which allow the use of fuel assemblies with fuel rods containing Optimized ZIRLO™. These LOCA evaluations address the NRC SER [safety evaluation report] conditions and limitations for Optimized ZIRLO™ fuel rod cladding and provide continued compliance with the acceptance criteria of 10 CFR 50.46.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, Inc., 40 Inverness Center Parkway, Birmingham, AL 35242.

NRC Branch Chief: Michael T. Markley.

Susquehanna Nuclear, LLC, Docket No. 50-388, Susquehanna Steam Electric Station, Unit 2, Luzerne County, Pennsylvania

Date of amendment request: January 28, 2016, as supplemented by letter dated April 6, 2016. Publicly-available versions are in ADAMS under Accession No. ML16029A031 and Package Accession No. ML16097A486, respectively.

Description of amendment request: The amendment would modify the Susquehanna Steam Electric Station (SSES), Unit 2, Technical Specification (TS) 3.7.1, “Residual Heat Removal Service Water (RHRSW) System and the Ultimate Heat Sink (UHS),” and TS 3.8.7, “Distribution Systems—Operating,” to increase the completion time for Conditions A and B of TS 3.7.1 and Condition C of TS 3.8.7 from 72 hours to 7 days, in order to accommodate 480 volt (V) engineered safeguard system (ESS) load center (LC) transformer replacements on SSES, Unit 2. The proposed change is temporary and will be annotated by a note in each TS that specifies the allowance expires on June 15, 2020.

Basis for proposed no significant hazards consideration determination: As required by 10 CFR 50.91(a), the licensee has provided its analysis of the issue of no significant hazards consideration, which is presented below, along with NRC edits in square brackets:

1. Does the proposed change involve a significant increase in the probability or consequences of any accident previously evaluated?

Response: No.

The temporary changes to the completion times for TS 3.8.7, Condition C and TS 3.7.1, Conditions A and B are necessary to implement plant changes, which replace the Unit 1—480 V ESS LC Transformers 1X210 and 1X220 in order to mitigate the loss of the transformer due to failure. The temporary change to the completion time for TS 3.8.7, Condition C is also necessary to implement plant changes, which replace the Unit 1—480 V ESS LC Transformers 1X230 and 1X240 in order to mitigate the loss of the transformer due to failure. These replacements decrease the probability of a transformer failure. The current assumptions in the safety analysis regarding accident initiators and mitigation of accidents are unaffected by these changes. No SSC [structure, system, or component] failure modes or mechanisms are being introduced, and the likelihood of previously analyzed failures remains unchanged.

The proposed change requests the Completion Time to restore a Unit 2 RHRSW subsystem be extended to 7 days in order to replace Unit 1 transformers 1X210 and 1X220. The extended Completion Times for TS 3.7.1 Conditions A and B are only applicable when transformers 1X210 or 1X220 are out of service with the intent of replacing the transformer.

During the replacements, the affected Unit 2 RHRSW subsystem will remain functional while the other subsystem of Unit 2 RHRSW will remain Operable. Operator action required to restore full capability of cooling provided by the Ultimate Heat Sink will only consist of manually operating two (2) valves; the Large Spray Array and the UHS bypass. This action can easily be completed within several hours and would restore full cooling to the RHRSW system.

Therefore, this proposed change does not involve a significant increase in the probability or consequences of an accident previously evaluated.

2. Does the proposed change create the possibility of a new or different kind of accident from any accident previously evaluated?

Response: No.

The proposed changes involve the increase of TS Completion Times to allow replacement of four (4) Unit 1—480 V ESS LC Transformers. New transformers will be installed but will not be operated in a new or different manner. There are no setpoints at which protective or mitigative actions are initiated [which are] affected by this change. These changes do not alter the manner in which equipment operation is initiated, nor will the function demands on credited equipment be changed. No alterations to procedures that ensure the plant remains within analyzed limits are being proposed, and no major changes are being made to procedures relied upon during off-normal events as described in the FSAR [final safety analysis report].

Therefore, the proposed change does not create the possibility of a new or different kind of accident from any previously evaluated.

3. Does the proposed change involve a significant reduction in a margin of safety?

Response: No.

Operational safety margin is established through equipment design, operating parameters, and the setpoints at which automatic actions are initiated. The proposed changes are acceptable because the Completion Time extensions allow replacement of the Unit 1—480 V ESS LC Transformers, equipment essential to safe plant operation, while ensuring safety related functions of affected equipment are maintained.

With the RHRSW Spray Pond Return Bypass Valves on the out of service loop electrically de-powered in the open position, a return flow path will be established. Since the RHRSW Pumps on Unit 2 are not impacted by the transformers outages, the affected RHRSW Loop on Unit 2 will be capable of providing cooling. This configuration will continue to provide the margin of safety assumed by the safety analysis, although the affected RHRSW loop will be administratively declared Inoperable.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Damon D. Obie, Esquire, Associate General Counsel, Talen Energy Supply, LLC, 835 Hamilton St., Suite 150, Allentown, PA 18101.

NRC Branch Chief: Douglas A. Broaddus.

Tennessee Valley Authority, Docket Nos. 50-390 and 50-391, Watts Bar Nuclear Plant, Units 1 and 2, Rhea County, Tennessee

Date of amendment request: December 8, 2015, as supplemented by letter dated March 11, 2016. Publicly-available versions are in ADAMS under Accession Nos. ML15342A477 and ML16071A456, respectively. The letter dated March 11, 2016, supersedes the December 8, 2015, amendment request in its entirety.

Description of amendment request: The amendments would revise the Watts Bar Nuclear Plant (WBN), Units 1 and 2, Technical Specification (TS) 3.8.1, “AC Sources—Operating,” to extend the Completion Time (CT) for one inoperable Diesel Generator (DG) from 72 hours to 14 days, based on the availability of an alternate alternating current (AC) power source (specifically, the FLEX DG added as part of the mitigating strategies for beyond-design-basis events in response to NRC Order EA-12-049). The amendments would also make clarifying changes to certain TS 3.8.1 conditions, required actions, and surveillance requirements.

Basis for proposed no significant hazards consideration determination: As required by 10 CFR 50.91(a), the licensee has provided its analysis of the issue of no significant hazards consideration, which is presented below:

1. Does the proposed amendment involve a significant increase in the probability or consequence of an accident previously evaluated?

Response: No.

The proposed changes do not affect the design of the DGs, the operational characteristics or function of the DGs, the interfaces between the DGs and other plant systems, or the reliability of the DGs. Required Actions and their associated CTs are not considered initiating conditions for any UFSAR [Updated Final Safety Analysis Report] accident previously evaluated, nor are the DGs considered initiators of any previously evaluated accidents. The DGs are provided to mitigate the consequences of previously evaluated accidents, including a loss of off-site power.

The consequences of previously evaluated accidents will not be significantly affected by the extended DG CT, because a sufficient number of onsite Alternating Current power sources will continue to remain available to perform the accident mitigation functions associated with the DGs, as assumed in the accident analyses. In addition, as a risk mitigation and defense-in-depth action, an independent AC power source, an available FLEX DG, will be available to support the ESF [engineered safety feature] bus with the inoperable DG during a SBO [station blackout].

Therefore, this change does not involve a significant increase in the probability or consequences of an accident previously evaluated.

2. Does the proposed amendment create the possibility of a new or different kind of accident from any accident previously evaluated?

Response: No.

The proposed change does not involve a change in the permanent design, configuration, or method of operation of the plant. The proposed changes will not alter the manner in which equipment operation is initiated, nor will the functional demands on credited equipment be changed. The proposed changes allow operation of the unit to continue while a DG is repaired and retested with the FLEX DG in standby to mitigate a SBO event. The proposed extensions do not affect the interaction of a DG with any system whose failure or malfunction can initiate an accident. As such, no new failure modes are being introduced. Therefore, the proposed change does not create the possibility of a new or different kind of accident from any accident previously evaluated.

3. Does the proposed amendment involve a significant reduction in a margin of safety?

Response: No.

The proposed changes do not alter the permanent plant design, including instrument set points, nor does it change the assumptions contained in the safety analyses. The FLEX DG alternate AC system is designed with sufficient redundancy such that a DG may be removed from service for maintenance or testing. The remaining DGs are capable of carrying sufficient electrical loads to satisfy the UFSAR requirements for accident mitigation or unit safe shutdown. The proposed changes do not affect the redundancy or availability requirements of offsite power supplies or change the ability of the plant to cope with station blackout events.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Sherry A. Quirk, Executive Vice President and General Counsel, Tennessee Valley Authority, 400 West Summit Hill Dr., 6A West Tower, Knoxville, TN 37902.

NRC Branch Chief: Benjamin G. Beasley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-413 and 50-414, Catawba Nuclear Station, Units 1 and 2, York County, South Carolina

Date of amendment request: June 23, 2014, as supplemented by letters dated August 26, 2014; December 15, 2014; January 22, 2015; April 23, 2015; and November 16, 2015.

Brief description of amendments: The amendments revised the Renewed Facility Operating Licenses and technical specifications (TSs) to implement a measurement uncertainty recapture (MUR) power uprate at Catawba Nuclear Station Unit 1 (Catawba 1) that increases the rated thermal power (RTP) from 3411 megawatts thermal (MWt) to 3469 MWt. This is an increase of approximately 1.7 percent RTP. This increase is based on the use of Cameron (a.k.a. Caldon) instrumentation to determine core power level with a power measurement uncertainty of approximately 0.3 percent. As noted in the licensee's application, although the MUR uprate was for Catawba 1, the amendment request was submitted for both units. This is because the TSs are common to both units.

Date of issuance: April 29, 2016.

Effective date: As of the date of issuance and shall be implemented within 90 days of issuance.

Amendment Nos.: 281 (Unit 1) and 277 (Unit 2). A publicly-available version is in ADAMS under Accession No. ML16081A333; documents related to these amendments are listed in the Safety Evaluation enclosed with the amendments.

Renewed Facility Operating License Nos. NPF-35 and NPF-52: The amendments revised the Renewed Facility Operating Licenses and TSs.

Date of initial notice in Federal Register: November 4, 2014 (79 FR 65429). The supplemental letters dated August 26, 2014; December 15, 2014; January 22, 2015; April 23, 2015; and November 16, 2015, provided additional information that clarified the application, did not expand the scope of the application as originally noticed, and did not change the staff's original proposed no significant hazards consideration determination as published in the Federal Register.

The Commission's related evaluation of the amendments is contained in a Safety Evaluation dated April 29, 2016.

No significant hazards consideration comments received: No.

Duke Energy Carolinas, LLC, Docket Nos. 50-413 and 50-414, Catawba Nuclear Station, Units 1 and 2, York County, South Carolina; Duke Energy Carolinas, LLC, Docket Nos. 50-369 and 50-370 McGuire Nuclear Station, Units 1 and 2, Mecklenburg County, North Carolina; Duke Energy Carolinas, LLC, Docket Nos. 50-269, 50-270, and 50-287, Oconee Nuclear Station, Units 1, 2, and 3, Oconee County, South Carolina

Date of amendment request: April 16, 2015.

Brief description of amendments: The amendments modified the technical specification (TS) requirements regarding steam generator tube inspections and reporting as described in Technical Specification Task Force (TSTF)-510, Revision 2, “Revision to Steam Generator Program Inspection Frequencies and Tube Sample Selection.”

Date of issuance: April 26, 2016.

Effective date: As of the date of issuance and shall be implemented within 120 days of issuance.

Amendment Nos.: 280, 276, 284, 263, 396, 398, and 397. A publicly-available version is available in ADAMS under Accession No. ML16075A301.

Renewed Facility Operating License Nos. NPF-35, NPF-52, NPF-9, NPF-17, DPR-38, DPR-47, and DPR-55: Amendments revised the licenses and TSs.

Date of initial notice in Federal Register: June 23, 2015 (80 FR 35981).

The Commission's related evaluation of the amendments is contained in a Safety Evaluation dated April 26, 2016.

No significant hazards consideration comments received: No.

Duke Energy Carolinas, LLC, Docket Nos. 50-269, 50-270, and 50-287, Oconee Nuclear Station, Units 1, 2, and 3, Oconee County, South Carolina

Date of amendment request: May 19, 2015, as supplemented by letters dated August 20, 2015, and February 26, 2016.

Brief description of amendments: The amendments add a Reactor Protective System Nuclear Overpower—High Setpoint trip for three (3) reactor coolant pump operation to Technical Specification Table 3.3.1-1, “Reactor Protective System Instrumentation.” The existing overpower protection for three (3) reactor coolant pump operation is the Nuclear Overpower Flux/Flow/Imbalance trip function. The new setpoint provides an absolute setpoint that can be actuated regardless of the transient or Reactor Coolant System flow conditions and provides a significant margin gain for the small steam line break accident.

Date of issuance: April 29, 2016.

Effective date: As of the date of issuance and shall be implemented within 90 days.

Amendment Nos.: 397 for Unit 1, 399 for Unit 2, and 398 for Unit 3. A publicly-available version is in ADAMS under Accession No. ML16088A330; documents related to these amendments are listed in the Safety Evaluation enclosed with the amendments.

Renewed Facility Operating License Nos. DPR-38, DPR-47, and DPR-55: The amendments revised the Renewed Facility Operating License and the TSs.

Date of initial notice in Federal Register: October 27, 2015 (80 FR 65810). The supplemental letter dated February 26, 2016, provided additional information that clarified the application, did not expand the scope of the application as originally noticed, and did not change the staff's original proposed no significant hazards consideration determination as published in the Federal Register.

The Commission's related evaluation of the amendments is contained in a Safety Evaluation dated April 29, 2016.A24MY3.

No significant hazards consideration comments received: No.

Duke Energy Progress, Inc., Docket No. 50-261, H. B. Robinson Steam Electric Plant Unit No. 2, Hartsville, South Carolina

Date of amendment request: May 13, 2015, as supplemented by letter dated November 19, 2015.

Brief description of amendment: The amendment adopted the NRC-endorsed Nuclear Energy Institute (NEI) 99-01, Revision 6, “Development of Emergency Action Levels for Non-Passive Reactors.”

Date of issuance: April 28, 2016.

Effective date: As of the date of issuance and shall be implemented within 180 days of issuance.

Amendment No.: 245. A publicly-available version is in ADAMS under Accession No. ML16061A472; documents related to this amendment are listed in the Safety Evaluation enclosed with the amendment.

Renewed Facility Operating License No. DPR-23: The amendment revised the emergency action level technical bases document.

Date of initial notice in Federal Register: August 4, 2015 (80 FR 46348). The supplemental letter dated November 19, 2015, provided additional information that clarified the application, did not expand the scope of the application as originally noticed, and did not change the staff's original proposed no significant hazards consideration determination as published in the Federal Register.

The Commission's related evaluation of the amendment is contained in a Safety Evaluation dated April 28, 2016.

No significant hazards consideration comments received: No.

Duke Energy Progress, Inc., Docket Nos. 50-325 and 50-324; Brunswick Steam Electric Plant, Unit Nos. 1 and 2, Brunswick County, North Carolina; Docket No. 50-400; Shearon Harris Nuclear Power Plant, Unit 1, Wake County, North Carolina; Duke Energy Carolinas, LLC, Docket Nos. 50-413 and 50-414, Catawba Nuclear Station, Units 1 and 2, York County, South Carolina; Docket Nos. 50-369 and 50-370, McGuire Nuclear Station, Units 1 and 2, Mecklenburg County, North Carolina; and Docket Nos. 50-269, 50-270, and 50-287, Oconee Nuclear Station, Units 1, 2, and 3, Oconee County, South Carolina

Date of amendment request: June 24, 2015, as supplemented by letter dated January 18, 2016.

Brief description of amendments: The amendments revise or add Surveillance Requirements to verify that the system locations susceptible to gas accumulation are sufficiently filled with water and to provide allowances which permit performance of the verification. The changes are being made to address the concerns discussed in NRC Generic Letter 2008-01, “Managing Gas Accumulation in Emergency Core Cooling, Decay Heat Removal, and Containment Spray Systems” (ADAMS Accession No. ML072910759). The amendments reference TSTF-523, Revision 2, “Generic Letter 2008-01, Managing Gas Accumulation” (79 FR 2700).

Date of issuance: April 29, 2016.

Effective date: As of the date of issuance and shall be implemented within 1 year.

Amendment Nos.: 270 and 298, for the Brunswick Steam Electric Plant, Unit Nos. 1 and 2; 150, for the Shearon Harris Nuclear Power Plant, Unit 1; 282 and 278, for the Catawba Nuclear Station, Units 1 and 2; 285 and 264, for the McGuire Nuclear Station, Units 1 and 2; and 398, 400, and 399, for the Oconee Nuclear Station, Units 1, 2, and 3. A publicly-available version is in ADAMS under Accession No. ML16085A113; documents related to these amendments are listed in the Safety Evaluation enclosed with the amendments.

Renewed Facility Operating License Nos. DPR-71, DPR-62, for the Brunswick Steam Electric Plant, Unit Nos. 1 and 2; NPF-63, for the Shearon Harris Nuclear Power Plant, Unit 1; NPF-35 and NPF-52, for the Catawba Nuclear Station, Units 1 and 2; NPF-9 and NPF-17, for the McGuire Nuclear Station, Units 1 and 2; and DPR-38, DPR-47, DPR-55, for the Oconee Nuclear Station, Units 1, 2, and 3: The amendments revised the Renewed Facility Operating Licenses and the TSs.

Date of initial notice in Federal Register: August 14, 2015 (80 FR 48923). This Federal Register notice was corrected on August 20, 2015 (80 FR 50663). The supplemental letter dated January 18, 2016, provided additional information that clarified the application, did not expand the scope of the application as originally noticed, and did not change the staff's original proposed no significant hazards consideration determinations as published in the Federal Register.

The Commission's related evaluation of the amendments is contained in a Safety Evaluation dated April 29, 2016.

No significant hazards consideration comments received: No.

Entergy Nuclear Operations, Inc., Docket No. 50-255, Palisades Nuclear Plant, Van Buren County, Michigan

Date of amendment request: June 11, 2015.

Brief description of amendment: This amendment revises the date of the Cyber Security Plan (CSP) Implementation Milestone 8 and the associated existing facility operating license condition regarding full implementation of the CSP. The CSP and associated implementation schedule was previously approved by the NRC staff by letter dated December 8, 2014 (ADAMS Accession No. ML14237A144).

Date of issuance: May 2, 2016.

Effective date: As of the date of issuance and shall be implemented within 30 days.

Amendment No.: 259. A publicly-available version is in ADAMS under Accession No. ML16078A068; documents related to this amendment are listed in the Safety Evaluation enclosed with the amendment.

Renewed Facility Operating License No. DPR-20: Amendment revised the Renewed Facility Operating License.

Date of initial notice in Federal Register: August 4, 2015 (80 FR 46349).

The Commission's related evaluation of the amendment is contained in a Safety Evaluation dated May 2, 2016.

No significant hazards consideration comments received: No.

Exelon Generation Company, LLC and PSEG Nuclear LLC, Docket Nos. 50-277 and 50-278, Peach Bottom Atomic Power Station, Units 2 and 3, York and Lancaster Counties, Pennsylvania

Date of amendment request: December 15, 2015, as supplemented by letter dated March 15, 2016.

Brief description of amendments: The amendments reduced the reactor steam dome pressure stated in the technical specifications (TSs) for the reactor core safety limits. The change addresses a 10 CFR part 21 issue concerning the potential to violate the safety limits during a pressure regulator failure maximum demand (open) transient.

Date of issuance: April 27, 2016.

Effective date: As of the date of issuance and shall be implemented within 60 days of issuance.

Amendments Nos.: 306 and 310. A publicly-available version is in ADAMS under Accession No. ML16064A150; documents related to these amendments are listed in the Safety Evaluation enclosed with the amendments.

Renewed Facility Operating License Nos. DPR-44 and DPR-56: The amendments revised the Renewed Facility Operating Licenses and TSs.

Date of initial notice in Federal Register: January 5, 2016 (81 FR 263). The supplemental letter dated March 15, 2016, provided additional information that clarified the application, did not expand the scope of the application as originally noticed, and did not change the staff's original proposed no significant hazards consideration determination as published in the Federal Register.

The Commission's related evaluation of the amendments is contained in a Safety Evaluation dated April 27, 2016.

No significant hazards consideration comments received: No.

Exelon Generation Company, LLC and PSEG Nuclear LLC, Docket Nos. 50-277 and 50-278, Peach Bottom Atomic Power Station, Units 2 and 3, York and Lancaster Counties, Pennsylvania

Date of amendment request: December 23, 2015.

Brief description of amendments: The amendments revised Technical Specification (TS) Limiting Condition for Operation 3.10.1, “Inservice Leak and Hydrostatic Testing Operation,” to allow more efficient testing during a refueling outage. The change is based on NRC-approved Technical Specification Task Force (TSTF) Improved Standard Technical Specifications Change Traveler, TSTF-484, Revision 0, “Use of TS 3.10.1 for Scram Time Testing Activities.”

Date of issuance: May 9, 2016.

Effective date: As of the date of issuance and shall be implemented within 60 days of issuance.

Amendments Nos.: 307 and 311. A publicly-available version is in ADAMS under Accession No. ML16084A968; documents related to these amendments are listed in the safety evaluation enclosed with the amendments.

Renewed Facility Operating License Nos. DPR-44 and DPR-56: The amendments revised the Renewed Facility Operating Licenses and TSs.

Date of initial notice in Federal Register: March 1, 2016 (81 FR 10680).

The Commission's related evaluation of the amendments is contained in a Safety Evaluation dated May 9, 2016.

No significant hazards consideration comments received: No.

Exelon Generation Company, LLC, Docket Nos. 50-237 and 50-249, Dresden Nuclear Power Station (DNPS), Units 2 and 3, Grundy County, Illinois

Date of application for amendment: December 30, 2014, as supplemented by letters dated May 8, 2015, July 30, 2015, October 15, 2015, and February 8, 2016.

Brief description of amendment: The amendments allow revision to DNPS technical specifications (TSs) in support of a new nuclear criticality safety analysis methodology, use of a new fuel assembly design to store AREVA ATRIUM 10XM fuel in the DNPS spent fuel pools (SFPs), and addition of a new TS 4.3.1.1c criticality parameter related to the maximum in-rack infinite k-effective (kinf) limit for fuel assemblies allowed to be stored in the SFP racks. Additionally, the DNPS licenses will be amended to ensure that any loss or reduction of SFP neutron-absorbing capacity will be promptly detected, and that the licensee will perform confirmatory testing to ensure that the minimum B-10 areal density continues to be met for the BORAL panels installed in the SFPs at DNPS.

Date of issuance: April 29, 2016.

Effective date: As of the date of issuance and shall be implemented within 30 days from the date of issuance.

Amendment Nos.: 249 and 242. A publicly-available version is under ADAMS Accession No. ML15343A126; documents related to these amendments are listed in the Safety Evaluation enclosed with the amendments.

Renewed Facility Operating License Nos. DPR-19 and DPR-25: The amendments revise the DNPS Technical Specifications and Licenses.

Date of initial notice in Federal Register: November 5, 2015 (80 FR 68573).

The supplements dated October 15, 2015, and February 8, 2016, contained clarifying information and did not change the NRC staff's initial proposed finding of no significant hazards consideration.

The Commission's related evaluation of the amendments is contained in a Safety Evaluation dated April 29, 2016.

No significant hazards consideration comments received: None.

FirstEnergy Nuclear Operating Company, et al., Docket No. 50-346, Davis-Besse Nuclear Power Station, Unit No. 1, Ottawa County, Ohio

Date of application for amendment: April 1, 2015, as supplemented by letters dated October 14, 2015, and February 19, 2016.

Brief description of amendment: This amendment revises certain technical specification minimum voltage and frequency acceptance criteria for emergency diesel generator testing.

Date of issuance: April 27, 2016.

Effective date: As of the date of issuance and shall be implemented by June 15, 2016.

Amendment No.: 291. A publicly-available version is in ADAMS under Accession No. ML16083A481. Documents related to this amendment are listed in the safely evaluation enclosed with the amendment.

Renewed Facility Operating License No. NPF-3: Amendment revised the Renewed Facility Operating License and Technical Specifications.

Date of notice in Federal Register: July 7, 2015 (80 FR 38759). The supplemental letters dated October 14, 2015, and February 19, 2016, provided additional information that clarified the application, did not expand the scope of the application as originally noticed, and did not change the staff's original proposed no significant hazards consideration determination as published in the Federal Register.

The Commission's related evaluation of the amendment is contained in a Safety Evaluation dated April 27, 2016.

No significant hazards consideration comments received: No.

Florida Power & Light Company, Docket Nos. 50-250 and 50-251, Turkey Point Nuclear Generating, Unit Nos. 3 and 4, Miami-Dade County, Florida

Date of amendment request: April 16, 2015, as supplemented by letters dated December 7, 2015, and March 29, 2016.

Brief description of amendments: The amendments revised the technical specifications (TSs) related to the boric acid tank to reflect a correction to a calculation.

Date of issuance: April 26, 2016.

Effective date: As of the date of issuance and shall be implemented within 60 days of issuance.

Amendment Nos: 270 (Unit No. 3) and 265 (Unit No. 4). A publicly-available version is in ADAMS under Accession No. ML16004A019; documents related to these amendments are listed in the safety evaluation enclosed with the amendments.

Renewed Facility Operating License Nos. DPR-31 and DPR-41: Amendments revised the Renewed Facility Operating Licenses and TSs.

Date of initial notice in Federal Register: September 1, 2015 (80 FR 52806). The supplements dated December 7, 2015, and March 29, 2016, provided additional information that clarified the application and did not expand the scope of the application as originally noticed.

The Commission's related evaluation of the amendments is contained in a Safety Evaluation dated April 26, 2016.

No significant hazards consideration comments received: No.

Pacific Gas and Electric Company, Docket No. 50-133, Humboldt Bay Power Plant, Unit 3, Humboldt County, California

Date of application for amendment: May 3, 2013, as supplemented February 14, 2014, April 2, 2014, May 13, 2014, August 13, 2014, and March 16, 2015.

Brief description of amendment: The amendment adds License Condition 2.C.(5) to the Humboldt Bay license. This new license condition incorporates the NRC approved “License Termination Plan” (LTP), and associated addendum, into the Humboldt Bay license and specifies limits on the changes the licensee is allowed to make to the approved LTP without prior NRC review and approval.

Date of issuance: May 4, 2016.

Effective date: As of the date of issuance and shall be implemented within 60 days.

Amendment No.: 45. A publicly-available version is in ADAMS under Accession No. ML15090A339; documents related to these amendments are listed in the safety evaluation enclosed with the amendments.

Facility Operating License No. DPR-7: This amendment revises the License.

Date of initial notice in Federal Register: September 3, 2013, (78 FR 54285).

The Commission's related evaluation of the amendment is contained in a Safety Evaluation dated May 4, 2016.

No significant hazards consideration comments received: No.

PSEG Nuclear LLC and Exelon Generation Company, LLC, Docket Nos. 50-272 and 50-311, Salem Nuclear Generating Station (Salem), Unit Nos. 1 and 2, Salem County, New Jersey

Date of amendment request: April 3, 2015, as supplemented by letters dated June 2, 2015; November 27, 2015; February 3, 2016; February 10, 2016; and March 4, 2016.

Brief description of amendments: The amendments revised Technical Specification (TS) 3/4.3.1, “Reactor Trip System Instrumentation,” to support planned plant modifications to replace the existing source range and intermediate range nuclear instrumentation with equivalent neutron monitoring systems to increase system reliability.

Date of issuance: April 28, 2016.

Effective date: As of the date of issuance and shall be implemented at Salem, Unit No. 1, during the fall 2017 refueling outage (1R25), and at Salem, Unit No. 2, during the spring 2017 refueling outage (2R22).

Amendment Nos.: 313 (Unit No. 1) and 294 (Unit No. 2). A publicly-available version is in ADAMS under Accession No. ML16096A419; documents related to these amendments are listed in the safety evaluation enclosed with the amendments.

Renewed Facility Operating License Nos. DPR-70 and DPR-75: Amendments revised the Renewed Facility Operating Licenses and TSs.

Date of initial notice in Federal Register: August 4, 2015 (80 FR 46350). The supplemental letters dated November 27, 2015; February 3, 2016; February 10, 2016; and March 4, 2016, provided additional information that clarified the application, did not expand the scope of the application as originally noticed, and did not change the staff's original proposed no significant hazards consideration determination as published in the Federal Register.

The Commission's related evaluation of the amendments is contained in a Safety Evaluation dated April 28, 2016.

No significant hazards consideration comments received: No.

South Carolina Electric & Gas Company, South Carolina Public Service Authority, Docket No. 50-395, Virgil C. Summer Nuclear Station, Unit No. 1, Fairfield County, South Carolina

Date of amendment request: September 29, 2015.

Brief description of amendment: The amendment adopts the NRC-approved Technical Specifications Task Force (TSTF) Improved Standard Technical Specifications Change Traveler TSTF-523, Revision 2, “Generic Letter 2008-01, Managing Gas Accumulation.”

Date of issuance: May 6, 2016.

Effective date: As of the date of issuance and shall be implemented within 90 days of issuance.

Amendment No.: 204. A publicly-available version is in ADAMS under Accession No. ML16104A295; documents related to this amendment are listed in the Safety Evaluation enclosed with the amendment.

Facility Operating License No. NPF-12: Amendment revised the Facility Operating License and Technical Specifications.

Date of initial notice in Federal Register: November 24, 2015 (80 FR 73241).

The Commission's related evaluation of the amendment is contained in a Safety Evaluation dated May 6, 2016.

No significant hazards consideration comments received: No.

STP Nuclear Operating Company, Docket Nos. 50-498 and 50-499, South Texas Project, Units 1 and 2, Matagorda County, Texas

Date of amendment request: April 29, 2015, as supplemented by letters dated June 29, October 8, and November 11, 2015, and March 17, 2016.

Brief description of amendment: The amendments revised Technical Specification 6.8.3.j, “Containment Leakage Rate Testing Program,” to allow a permanent extension of the Type A primary containment integrated leak rate testing frequency from once every 10 years to once every 15 years.

Date of issuance: April 29, 2016.

Effective date: As of the date of issuance and shall be implemented within 90 days of issuance.

Amendment Nos.: Unit 1—210; Unit 2—197. A publicly-available version is in ADAMS under Accession No. ML16116A007; documents related to these amendments are listed in the Safety Evaluation enclosed with the amendments.

Facility Operating License Nos. NPF-76 and NPF-80: The amendments revised the Facility Operating Licenses and Technical Specifications.

Date of initial notice in Federal Register: August 14, 2015 (80 FR 48942). The notice was corrected on August 20, 2015 (80 FR 50663). The supplemental letters dated October 8 and November 11, 2015, and March 17, 2016, provided additional information that clarified the application, did not expand the scope of the application as originally noticed, and did not change the staff's original proposed no significant hazards consideration determination as published in the Federal Register.

The Commission's related evaluation of the amendments is contained in a Safety Evaluation dated April 29, 2016.

No significant hazards consideration comments received: No.

Tennessee Valley Authority, Docket No. 50-259, Browns Ferry Nuclear Plant, Unit 1, Limestone County, Alabama

Date of amendment request: September 25, 2015, as supplemented by letters dated December 28, 2015, and March 28, 2016.

Brief description of amendment: The amendment revised the technical specification (TS) Safety Limit Minimum Critical Power Ratio (SLMCPR) numeric values. The change decreased the numeric values of SLMCPR in TS Section 2.1.1.2 for single and two reactor recirculation loop operation based on the Cycle 12 SLMCPR evaluation.

Date of issuance: April 26, 2016.

Effective date: As of the date of issuance and shall be implemented during the Unit 1 refueling outage in the fall of 2016.

Amendment No.: 295. A publicly-available version is in ADAMS under Accession No. ML16028A414, documents related to this amendment are listed in the Safety Evaluation enclosed with the amendment.

Renewed Facility Operating License No. DPR-33: Amendment revised the Facility Operating License and TS.

Date of initial notice in Federal Register: January 5, 2016 (81 FR 276). The supplemental letters dated December 28, 2015, and March 28, 2016, provided additional information that clarified the application, did not expand the scope of the application as originally noticed, and did not change the staff's original proposed no significant hazards consideration determination as published in the Federal Register.

The Commission's related evaluation of the amendments is contained in an SE dated April 26, 2016.

No significant hazards consideration comments received: No.

Dated at Rockville, Maryland, this 13th day of May 2016.
For the Nuclear Regulatory Commission.
Anne T. Boland,
Director, Division of Operating Reactor Licensing, Office of Nuclear Reactor Regulation.

[FR Doc. 2016-11976 Filed 5-23-16; 8:45 am]

BILLING CODE 7590-01-P